DEPARTMENT OF DEFENSE

Office of the Secretary

[Docket ID: DoD-2023-OS-0004]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 13, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Military Community Support Programs, 4800 Mark Center Drive, Suite 14E08, Alexandria, VA 22350, C. Eddy Mentzer, (571) 309-4977.

SUPPLEMENTARY INFORMATION:

Title; Associated Form; and OMB Number: Military Spouse Employment Partnership (MSEP) Partner Portal; OMB Control Number 0704-0563.

Needs and Uses: The information collection requirement is necessary to allow MSEP Partners to apply to be part of the partnership, report spouse hires, and access spouse employment data.

Affected Public: Individuals or households; Business or Other For-Profit.

MSEP Partners

Annual Burden Hours: 16,800.

Number of Respondents: 700.

Responses per Respondent: 24.

Annual Responses: 16,800.

Average Burden per Response: 1 hour.

Businesses/Companies

Annual Burden Hours: 1,200.

Number of Respondents: 100.

Annual Responses: 2,400.

Average Burden per Response: 30 minutes.

Responses per Respondent: 24.

Total

Annual Burden Hours: 18,000.

Number of Respondents: 800.

Annual Responses: 19,200.

Frequency: Bi-Monthly for MSEP Partners; Once for Businesses/Companies.

The Military Spouse Employment Partnership (MSEP) Partner Portal is the sole web platform utilized to connect the program office with MSEP employer partners and potential partners. Participating companies, called MSEP Partners, are vetted and approved participants in the MSEP Program and have pledged to recruit, hire, promote and retain military spouses in portable careers. MSEP is a targeted recruitment and employment partnership that connects American businesses with military spouses who possess essential 21st-century workforce skills and attributes and are seeking portable, fulfilling careers. The MSEP program is part of the overall Spouse Education and Career Opportunities (SECO) program which falls under the auspices of the office of the Deputy Assistant Secretary of Defense for Military Community & Family Policy.

Dated: January 6, 2023.
Aaron T. Siegel,
Alternate OSD Federal Register Liaison Officer, Department of Defense.

[FR Doc. 2023-00451 Filed 1-11-23; 8:45 am]

BILLING CODE 5001-06-P